DEPARTMENT OF HEALTH AND HUMAN SERVICES

Administration for Children and Families

Proposed Information Collection Activity; Comment Request

Title: Formative Data Collections for Policy Research.

OMB No.: 0970-0356.

Description: The Office of Planning, Research and Evaluation (OPRE), in the Administration for Children and Families (ACF) at the U.S. Department of Health and Human Services (HHS) intends to request approval from the Office of Management and Budget (OMB) for renewal of a generic clearance to allow OPRE to conduct a variety of formative data collections with more than nine respondents. The data collections will inform future research but will not be highly systematic nor intended to be statistically representative.

OPRE conducts research on a wide variety of policy and programmatic areas. OPRE's research serves to provide further understanding of current programs and service populations, explore options for program improvement, and assess alternative policy and program designs. OPRE uses this formative data collection generic clearance to employ a variety of information collection techniques, including semi-structured discussions, focus groups and interviews. These activities inform the development of OPRE research, help OPRE maintain a research agenda that is rigorous and relevant, and ensure that research products are as current as possible.

Following standard OMB requirements, OPRE will submit a change request for each individual data collection activity under this generic clearance. Each request will include the individual instrument(s), a justification specific to the individual information collection, and any supplementary documents. OPRE requests OMB review within 10 days of receiving each change request.

Respondents: Key stakeholder groups involved in ACF projects, state or local government officials or service providers, or experts in fields pertaining to ACF research.

Annual Burden Estimates
Instrument | Total number of respondents | Annual number of respondents | Number of responses per respondent | Average burden hours per response | Total burden hours | Annual burden hours
Semi-Structured Discussion and Information-Gathering Protocols | 1,600 | 533 | 1 | 1 | 1,600 | 533

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-21917 Filed 9-12-14; 8:45 am]

BILLING CODE 4184-79-P